DEPARTMENT OF TRANSPORTATION

Federal Aviation Administration

14 CFR Part 71

[Docket No. FAA-2004-18815; Airspace Docket No. 04-AWP-2]

Modification of Class D and Class E Airspace; Prescott, AZ

AGENCY: Federal Aviation Administration (FAA), DOT.

ACTION: Final rule.

SUMMARY: This action modifies the Class D and Class E surface areas at Ernest A. Love Field (PRC) in Prescott, AZ. A review of airport operations and airspace made this action necessary. This action modifies the Prescott Class D and Class E surface areas to include airspace extending upward from the surface to and including 7,500 feet MSL within a 6-mile radius of Ernest A. Love Field.

EFFECTIVE DATE: 0901 UTC, January 20, 2005.

FOR FURTHER INFORMATION CONTACT: Jeri Carson, Airspace Branch, Western Terminal Operations, Federal Aviation Administration, 15000 Aviation Boulevard, Lawndale, CA; telephone (310) 725-6611.

SUPPLEMENTARY INFORMATION:

History

On Monday, August 30, 2004, the FAA proposed to amend 14 CFR part 71 to modify Class D and Class E airspace at Prescott, AZ. (69 FR 52839). Interested parties were invited to participate in this rulemaking proceeding by submitting written comments on the proposal to the FAA. No comments objecting to the proposal were received. Class D airspace designations are published in paragraph 5000 and Class E surface area airspace designations are published in paragraph 6002 of FAA Order 7400.9M dated August 30, 2004, and effective September 16, 2004, which is incorporated by reference in 14 CFR 71.1. The Class D and Class E airspace designations listed in this document will be published subsequently in the Order.

The Rule

This amendment to 14 CFR part 71 modifies Class D and Class E airspace at Prescott, AZ. The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 95665, 3 CFR 1959-1963 Comp., p. 389.

§ 71.1 [Amended]

2. The incorporation by reference in 14 CFR 71.1 of the Federal Aviation Administration Order 7400.9M, Airspace Designations and Reporting Points, dated August 30, 2004, and effective September 16, 2004, is amended as follows:

Paragraph 5000 Class D Airspace.

* * * * *

AWP AZ D Prescott, AZ [Revised]

Prescott, Ernest A. Love Field, AZ

(Lat. 34°39′16.1″ N, long. 112°25′10.5″ W)

That airspace extending upward from the surface to and including 7,500 feet MSL within a 6-mile radius of Ernest A. Love Field. This Class D airspace area is effective during the specific dates and times established in advance by a Notice to Airmen. The effective date and time will thereafter be published in the Airport/Facility Directory.

* * * * *

AWP AZ E2 Prescott, AZ [Revised]

Prescott, Ernest A. Love Field, AZ

(Lat. 34°39′16.1″ N, long. 112°25′10.5″ W)

That airspace extending upward from the surface to and including 7,500 feet MSL within a 6-mile radius of Ernest A. Love Field. This Class E airspace area is effective during the specific dates and times established in advance by a Notice to Airmen. The effective date and time will thereafter be published in the Airport/Facility Directory.

* * * * *

Issued in Los Angeles, California, on October 18, 2004.
John Clandy,
Area Director, Western Terminal Operations.

[FR Doc. 04-24258 Filed 10-28-04; 8:45 am]

BILLING CODE 4910-13-M